DEPARTMENT OF COMMERCE

[Docket No. 150720624-5624-01]

Privacy Act of 1974, New System of Records

AGENCY: U.S. Department of Commerce, National Oceanic and Atmospheric Administration.

ACTION: Notice of Privacy Act system of records; “COMMERCE/NOAA-23; Economic Data Collection Program for West Coast Groundfish Trawl Catch Share Program off the coast of Washington, Oregon, and California.”

SUMMARY: This notice announces the Department of Commerce (Department) proposal for a new system of records under the Privacy Act. NOAA's National Marine Fisheries Service (NMFS), Northwest Fisheries Science Center (NWFSC), is creating a system of records for the mandatory collection of economic data in the West Coast Region consisting of the Economic Data Collection (EDC) for West Coast Groundfish Trawl Catch Share Program. Information will be collected from individuals under the authority of the Magnuson-Stevens Fishery Conservation and Management Act and the American Fisheries Act. This record system is necessary to evaluate information on costs of fishing and processing, revenues for harvesters and processors, and employment information.

DATES: To be considered, written comments must be submitted on or before September 8, 2015. Unless comments are received, the system of records will become effective as proposed on the date of publication of a subsequent notice in the Federal Register.

ADDRESSES: Comments may be mailed to Erin Steiner, NOAA Fisheries, Northwest Fisheries Science Center, FRAM Division, 2725 Montlake Boulevard East, Seattle, WA 98112.

SUPPLEMENTARY INFORMATION: This notice announces the Department of Commerce (Department) proposal for a new system of records under the Privacy Act. NMFS' NWFSC is creating a system of records for the EDC for the West Coast Groundfish Trawl Catch Share Program. This record system is necessary to evaluate information on costs of fishing and processing, revenues for harvesters and processors, and employment information.

Under the EDC, information would be requested from individuals under the authority of the Magnuson-Stevens Fishery Conservation and Management Act and the 50 CFR 660.114. This collection would apply to all owners, lessees, and charterers of a catcher vessel registered to a limited entry trawl endorsed permit, a mothership vessel registered to a mothership permit, or a catcher-processor vessel registered to a catcher-processor-endorsed limited entry trawl permit; owners of a first receiver site license; and owners and lessees of a shorebased processor that received round or headed and gutted individual fishing quota groundfish species or whiting from a first receiver are required to submit an EDC to the NWFSC Economics and Social Science Research Program (ESSR).

The collection of information is necessary to identify participants and their roles in these fisheries and to evaluate the programs in which they participate. NMFS would collect information from individuals in order to evaluate the economic effects of fisheries programs, specifically the effects on the harvesting and processing sectors, and to determine the economic efficiency and distributional effects of the programs.

COMMERCE/NOAA-23

SYSTEM NAME:

COMMENRCE/NOAA-23, Economic Data Collection (EDC) Program for West Coast Groundfish Trawl Catch Share Program off the coast of Washington, Oregon, and California.

SECURITY CLASSIFICATION:

Moderate.

The EDC system is designed as follows: (1) Participants are required to submit an annual EDC to the NMFS Northwest Fisheries Science Center (NWFSC) Economics and Social Science Research Program (ESSR); (2) Upon request, the NWFSC will provide the EDC information with individual identifiers to NOAA Office for Enforcement and the U.S. Coast Guard; and (3) Upon request, NWFSC ESSR will provide the EDC information with individual identifiers to the Department of Justice (DOJ) and Federal Trade Commission (FTC) to assist in anti-trust analysis of the Program.

SYSTEM LOCATIONS:

NMFS Northwest Fisheries Science Center, 2725 Montlake Blvd. East, Seattle, WA 98112

CATEGORIES OF INDIVIDUALS COVERED BY THE SYSTEM:

Data from 2009 and 2010: All owners, lessees, and charterers of a catcher vessel registered to a limited entry trawl endorsed permit at any time in 2009 or 2010; all owners, lessees, and charterers of a mothership vessel that received whiting in 2009 or 2010 as recorded in NMFS' North Pacific (NORPAC) database; all owners, lessees, and charterers of a catcher processor vessel that harvested whiting in 2009 or 2010 as recorded in NMFS' NORPAC database; all owners and lessees of a shorebased processor and all buyers that received groundfish or whiting harvested with a limited entry trawl permit as listed in the Pacific Fisheries Information Network (PacFIN) database in 2009 or 2010.

Data from 2011 and beyond: All owners, lessees, and charterers of a catcher vessel registered to a limited entry trawl endorsed permit at any time in 2011 and beyond; all owners, lessees, and charterers of a mothership (MS) vessel registered to an MS permit at any time in 2011 and beyond; all owners, lessees, and charterers of a catcher processor vessel registered to a catcher-processor (C/P)-endorsed limited entry trawl permit at any time in 2011 and beyond; all owners of a first receiver site license in 2011 and beyond; all owners and lessees of a shorebased processor (as defined under “processor” at § 660.11, for purposes of EDC) that received round or headed-and-gutted individual fishing quota species groundfish or whiting from a first receiver in 2011 and beyond.

CATEGORIES OF RECORDS IN THE SYSTEM:

System would include records for historical, annual, and current EDCs including financial information, harvest activity and cost, product and cost information, labor cost information for crew, and sales information. The EDCs request data on cost, revenue, ownership, and employment and will be used to study the economic impacts of the West Coast Trawl Groundfish Catch Share Program on affected harvesters, processors, and communities, as well as net benefits to the nation.

Each report would include the following: The name, title, telephone number, fax number, and email address of the person completing the EDC; name and address of the owner or lessee of the plant or vessel; Federal fisheries permit number; Federal processor permit number; Coast Guard vessel registration number or state vessel registration number, Federal license number, state buyer number, and an assigned internal individual identifier.

AUTHORITY FOR MAINTENANCE OF THE SYSTEM:

Magnuson-Stevens Fishery Conservation and Management Act, 16 U.S.C. 1801 et seq. (Magnuson-Stevens Act), Section 313(j) of the Magnuson-Stevens Act, 16 U.S.C. 1853; 50 CFR 660.114.

PURPOSE(S):

This information will allow NMFS to evaluate the economic effects of the West Coast Trawl Groundfish Catch Share Program, specifically the harvesting and processing sectors; the determination of the economic efficiency and distributional effects of the Program.

ROUTINE USES OF RECORDS MAINTAINED IN THE SYSTEM, INCLUDING CATEGORIES OF USERS OF AND THE PURPOSES OF SUCH USES:

In addition to those disclosures generally permitted under 5 U.S.C. 552a(b) of the PrivacyAct, these records or information contained therein may specifically be disclosed outside the Department of Commerce (Department). The records or information contained therein may specifically be disclosed as a routine use as stated below. The Department will, when so authorized, make the determination as to the relevancy of a record prior to its decision to disclose a document.

1. In the event that a system of records maintained by the Department to carry out its functions indicates a violation or potential violation of law or contract, whether civil, criminal or regulatory in nature and whether arising by general statute or particular program statute or contract, rule, regulation, or order issued pursuant thereto, or the necessity to protect an interest of the Department, the relevant records in the system of records, may be referred to the appropriate agency, whether Federal, State, local, or foreign, charged with the responsibility of investigating or prosecuting such violation or charged with enforcing or implementing the statute or contract, rule, regulation, or order issued pursuant thereto, or protecting the interest of the Department.

2. A record from this system of records may be disclosed in the course of presenting evidence to a court, magistrate, hearing officer or administrative tribunal, including disclosures to opposing counsel in the course of settlement negotiations, administrative appeals and hearings.

3. A record in this system of records may be disclosed to a Member of Congress submitting a request involving an individual when the individual has requested assistance from the Member with respect to the subject matter of the record.

4. A record in this system of records may be disclosed to the Department of Justice in connection with determining whether the Freedom of Information Act (5 U.S.C. 552) requires disclosure thereof.

5. A record in this system will be disclosed to the Department of Treasury for the purpose of reporting and recouping delinquent debts owed the United States pursuant to the Debt Collection Improvement Act of 1996.

6. A record in this system of records may be disclosed to a contractor of the Department having need for the information in the performance of the contract but not operating a system of records within the meaning of 5 U.S.C. 552a(m).

7. A record in this system of records may be disclosed to the applicable Fishery Management Council (Council) staff and contractors tasked with the development of analyses to support Council decisions about Fishery Management Programs.

8. A record in this system of records may be disclosed to appropriate agencies, entities and persons when: (1) It is suspected or determined that the security or confidentiality of information in the system of records has been compromised; (2) the Department has determined that as a result of the suspected or confirmed compromise there is a risk of harm to economic or property interests, identity theft or fraud, or harm to the security or integrity of this system or whether systems or programs (whether maintained by the Department or another agency or entity) that rely upon the compromised information; and (3) the disclosure made to such agencies, entities, and persons is reasonably necessary to assist in connection with the Department's efforts to respond to the suspected or confirmed compromise and to prevent, minimize, or remedy such harm.

9. A record in this system of records may be disclosed to the Department of Justice and the Federal Trade Commission to assist in anti-trust analysis of the fisheries programs.

10. A record from this system of records may be disclosed, as a routine use, to a Federal, state or local agency maintaining civil, criminal or other relevant enforcement information or other pertinent information, such as current licenses, if necessary to obtain information relevant to a Department decision concerning the assignment, hiring or retention of an individual, the issuance of a security clearance, the letting of a contract, or the issuance of a license, grant or other benefit.

11. A record from this system of records may be disclosed, as a routine use, to a Federal, state, local, or international agency, in response to its request, in connection with the assignment, hiring or retention of an individual, the issuance of a security clearance, the reporting of an investigation of an individual, the letting of a contract, or the issuance of a license, grant, or other benefit by the requesting agency, to the extent that the information is relevant and necessary to the requesting agency's decision on the matter.

12. A record in this system of records which contains medical information may be disclosed, as a routine use, to the medical advisor of any individual submitting a request for access to the record under the Act and 15 CFR part 4b if, in the sole judgment of the Department, disclosure could have an adverse effect upon the individual, under the provision of 5 U.S.C. 552a(f)(3) and implementing regulations at 15 CFR 4b.6.

13. A record in this system of records may be disclosed, as a routine use, to the Office of Management and Budget in connection with the review of private relief legislation as set forth in OMB Circular No. A-19 at any stage of the legislative coordination and clearance process as set forth in that Circular.

14. A record in this system may be transferred, as a routine use, to the Office of Personnel Management: for personnel research purposes; as a data source for management information; for the production of summary descriptive statistics and analytical studies in support of the function for which the records are collected and maintained; or for related manpower studies.

15. A record from this system of records may be disclosed, as a routine use, to the Administrator, General Services Administration (GSA), or his designee, during an inspection of records conducted by GSA as part of that agency's responsibility to recommend improvements in records management practices and programs, under authority of 44 U.S.C. 2904 and 2906. Such disclosure shall be made in accordance with the GSA regulations governing inspection of records for this purpose, and any other relevant (i.e. GSA or Commerce) directive. Such disclosure shall not be used to make determinations about individuals

DISCLOSURE TO CONSUMER REPORTING AGENCIES:

Disclosure to consumer reporting agencies pursuant to 5 U.S.C. 552a(b)(12) may be made from this system to “consumer reporting agencies” as defined in the Fair Credit Reporting Act (15 U.S.C. 1681a(f)) and the Federal Claims Collection Act of 1966 (31 U.S.C. 3701(a)(3)).

POLICIES AND PRACTICES FOR STORING, RETRIEVING, ACCESSING, RETAINING, AND DISPOSING OF RECORDS IN THE SYSTEM:

STORAGE:

Computerized data base; CDs; back-up files stored on tape; paper records in file folders in locked metal cabinets and/or locked rooms.

RETRIEVABILITY:

Records are organized and retrieved by NMFS internal identification number, name of owner or lessee, vessel permit number, buyer identification number, vessel name, or plant name. Records can be accessed by any file element or any combination thereof.

SAFEGUARDS:

The system of records is stored in a building with doors that are locked during and after business hours. Visitors to the facility must register and must be accompanied by Federal personnel at all times. Only those that have the need to know, to carry out the official duties of their job, have access to the information. Paper records are maintained in secured file cabinets in areas that are accessible only to authorized personnel of the Data Collection Agent. Electronic records containing Privacy Act information are protected by a user identification/password. The user identification/password is issued to individuals by authorized personnel.

NMFS, Northwest Fisheries Science Center, contractors, to whom access to this information is granted in accordance with this system of records routine uses provision, are instructed on the confidential nature of this information.

All electronic information disseminated by NOAA adheres to the standards set out in Appendix III, Security of Automated Information Resources, OMB Circular A-130; the Computer Security Act (15 U.S.C. 278g-3 and 278g-4); and the Government Information Security Reform Act, Public Law 106-398; and follows NIST SP 800-18, Guide for Developing Security Plans for Federal Information Systems; NIST SP 800-26, Security Self-Assessment Guide for Information Technology Systems; and NIST SP 800-53, Recommended Security Controls for Federal Information Systems.

RETENTION AND DISPOSAL:

All records are retained and disposed of in accordance with National Archives and Records Administration regulations (36 CFR Subchapter XII, Chapter B—Records Management); Departmental directives and comprehensive records schedules; NOAA Administrative Order 205-01; and the NMFS Records Disposition Schedule, Chapter 1500.

SYSTEM MANAGER(S) AND ADDRESS:

Northwest Fisheries Science Center Economics Program Manager, NMFS Northwest Fisheries Science Center, 2725 Montlake Blvd. East, Seattle, WA 98112.

NOTIFICATION PROCEDURE:

Individuals seeking to determine whether information about themselves is contained in this system should address written inquires to the national Privacy Act Officer: Privacy Act Officer, NOAA, 1315 East-West Highway, Room 10641, Silver Spring MD 20910. Written requests must be signed by the requesting individual. Requestor must make the request in writing and provide his/her name, address, and date of the request and record sought. All such requests must comply with the inquiry provisions of the Department's Privacy Act rules which appear at 15 CFR part 4, subpart B, Appendix A.

RECORD ACCESS PROCEDURES:

Requests for access to records maintained in this system of records should be addressed to the same address given in the Notification Procedure section above.

CONTESTING RECORD PROCEDURES:

The Department's rules for access, for contesting contents, and appealing initial determinations by the individual concerned are provided for in 15 CFR part 4, subpart B, Appendix A.

RECORD SOURCE CATEGORIES:

Information contained in this system will be collected from individuals participating in the EDC data collections.

EXEMPTIONS CLAIMED FOR THE SYSTEM:

None.

Dated: August 3, 2015.
Michael J. Toland,
Department of Commerce, Acting Freedom of Information/Privacy Act Officer.

[FR Doc. 2015-19452 Filed 8-6-15; 8:45 am]

BILLING CODE 3510-DT-P